OFFICE OF THE UNITED STATES TRADE REPRESENTATIVE

[Docket Number USTR-2020-0002]

Request for Comments Concerning the Extension of Particular Exclusions Granted Under the April 2019 Product Exclusion Notice From the $34 Billion Action Pursuant to Section 301: China's Acts, Policies, and Practices Related to Technology Transfer, Intellectual Property, and Innovation

AGENCY: Office of the United States Trade Representative.

ACTION: Notice and request for comments.

SUMMARY: Effective July 6, 2018, the U.S. Trade Representative imposed additional duties on goods of China with an annual trade value of approximately $34 billion as part of the action in the Section 301 investigation of China's acts, policies, and practices related to technology transfer, intellectual property, and innovation. The U.S. Trade Representative initiated the exclusion process in July 2018 and has granted multiple sets of exclusions. The third set of exclusions was granted in April 2019, and is scheduled to expire on April 18, 2020. The U.S. Trade Representative has decided to consider a possible extension for up to 12 months of particular exclusions granted in April 2019. The Office of the U.S. Trade Representative (USTR) invites public comment on whether to extend particular exclusions.

DATES:

February 16, 2020 at 12:01 a.m. ET: The docket—USTR-2020-0002—will open for submitting comments on the possible extension of particular exclusions.

March 16, 2020 at 11:59 p.m. ET: To be assured of consideration, submit written comments by March 16, 2020.

ADDRESSES: Submit public comments through the Federal eRulemaking Portal: https://www.regulations.gov. The docket number is USTR-2020-0002. USTR strongly encourages all commenters to use Form A in submitting comments. If applicable, Form B (which requests Business Confidential Information (BCI)), along with a copy of the corresponding Form A, must be submitted via email at 301bcisubmissions@ustr.eop.gov. See the submission instructions below.

FOR FURTHER INFORMATION CONTACT: For questions about this notice, contact USTR Assistant General Counsels Philip Butler or Benjamin Allen at (202) 395-5725.

SUPPLEMENTARY INFORMATION:

A. Background

For background on the proceedings in this investigation, please see the prior notices issued in the investigation, including 82 FR 40213 (August 23, 2017), 83 FR 14906 (April 6, 2018), 83 FR 28710 (June 20, 2018), 83 FR 40823 (August 16, 2018), 83 FR 47974 (September 21, 2018), 83 FR 65198 (December 19, 2018), 84 FR 7966 (March 5, 2019), 84 FR 20459 (May 9, 2019), 84 FR 43304 (August 20, 2019), 84 FR 45821 (August 30, 2019), 84 FR 69447 (December 18, 2019), and 85 FR 3741 (January 22, 2020).

Effective July 6, 2018, the U.S. Trade Representative imposed additional 25 percent duties on goods of China classified in 818 8-digit subheadings of the Harmonized Tariff Schedule of the United States (HTSUS), with an approximate annual trade value of $34 billion. See 83 FR 28710. The U.S. Trade Representative's determination included a decision to establish a process by which U.S. stakeholders can request exclusion of particular products classified within an 8-digit HTSUS subheading covered by the $34 billion action from the additional duties. The U.S. Trade Representative issued a notice setting out the process for the product exclusions, and opened a public docket. See 83 FR 32181 (the July 11 notice).

The July 11 notice required submission of requests for exclusion from the $34 billion action no later than October 9, 2018, and noted that the U.S. Trade Representative periodically would announce decisions. The U.S. Trade Representative has granted multiple sets of exclusions. The third set of exclusions was granted in April 2019, and is scheduled to expire on April 18, 2020. See 84 FR 16310 (April 2019 notice).

B. Possible Extensions of Particular Product Exclusions

The U.S. Trade Representative has decided to consider a possible extension for up to 12 months of particular exclusions granted in the April 2019 notice. Accordingly, USTR invites public comments on whether to extend particular exclusions granted in the April 2019 notice. At this time, USTR is not considering comments concerning possible extensions of exclusions granted under any other product exclusion notice.

USTR will evaluate the possible extension of each exclusion on a case-by-case basis. The focus of the evaluation will be whether, despite the first imposition of these additional duties in July 2018, the particular product remains available only from China. In addressing this factor, commenters should address specifically:

• Whether the particular product and/or a comparable product is available from sources in the United States and/or in third countries.

• Any changes in the global supply chain since July 2018 with respect to the particular product or any other relevant industry developments.

• The efforts, if any, the importers or U.S. purchasers have undertaken since July 2018 to source the product from the United States or third countries.

In addition, USTR will continue to consider whether the imposition of additional duties on the products covered by the exclusion will result in severe economic harm to the commenter or other U.S. interests.

USTR strongly encourages that commenters complete Form A, which will be posted on USTR's website by the time the docket opens, and submit the completed Form A to https://www.regulations.gov. The docket number is USTR-2020-0002. USTR will post completed Form A's on the public docket.

In addition to submitting Form A, commenters who are importers and/or purchasers of the products covered by the exclusion also should complete Form B, which will be posted on USTR's website by the time the docket opens, and submit it, along with a copy of their completed Form A, via email at 301bcisubmissions@ustr.eop.gov. Form A must be submitted via email with Form B and submitted as a single document without Form B to docket USTR-2020-0002 at https://www.regulations.gov.

Form B requests BCI information, and will not be posted on the public docket. To facilitate advance preparation of submissions, facsimiles of Forms A and B are annexed to this notice and will be available electronically at https://ustr.gov/issue-areas/enforcement/section-301-investigations/section-301-china/34-billion-trade-action.

Set forth below is a summary of the information to be entered on Form A:

• Contact information, including the full legal name of the organization making the comment, whether the commenter is a third party (e.g., law firm, trade association, or customs broker) submitting on behalf of an organization or industry, and the name of the third party organization, if applicable.

• The publication date of the Federal Register notice containing the exclusion on which you are commenting. Since USTR at this time only is considering exclusions granted by the April 2019 notice, this field must specify April 18, 2019.

• The full article description for the exclusion you are commenting on and the 10-digit code, as provided in the Federal Register notice granting the exclusion. Please indicate if the exclusion is a 10-digit HTSUS code (covering all products under a single 10-digit HTSUS number).

• Whether the product or products covered by the exclusion are subject to an antidumping or countervailing duty order issued by the U.S. Department of Commerce.

• Whether you support or oppose extending the exclusion and an explanation of your rationale. Commenters must provide a public version of their rationale, even if the commenter also is submitting a Form B with more detailed, confidential information.

• Whether the products covered by the exclusion or comparable products are available from sources in the U.S. or in third countries. Please include information concerning any changes in the global supply chain since July 2018 with respect to the particular product.

• Whether the commenter will be submitting Form B.

As indicated above, information submitted on Form B will not be publically available. Form B requires commenters who are importers and/or purchasers of the products covered by the exclusion to provide the following information:

• The efforts undertaken since July 2018 to source the product from the United States or third countries.

• The value and quantity of the Chinese-origin product covered by the specific exclusion request purchased in 2018, the first half of 2018, and the first half of 2019. Whether these purchases are from a related company, and if so, the name of and relationship to the related company.

• Whether Chinese suppliers have lowered their prices for products covered by the exclusion following the imposition of duties.

• The value and quantity of the product covered by the exclusion purchased from domestic and third country sources in 2018, the first half of 2018, and the first half of 2019.

• If applicable, the commenter's gross revenue for 2018, the first half of 2018, and the first half of 2019.

• Whether the Chinese-origin product of concern is sold as a final product or as an input.

• Whether the imposition of duties on the products covered by the exclusion will result in severe economic harm to the commenter or other U.S. interests.

• Any additional information in support or in opposition of the extending the exclusion.

Commenters also may provide any other information or data that they consider relevant.

C. Submission Instructions

To be assured of consideration, you must submit your comment between the opening of the docket on February 15, 2020, and the March 15, 2020 submission deadline. By submitting a comment, you are certifying that the information provided is complete and correct to the best of your knowledge.

C. Paperwork Reduction Act

In accordance with the requirements of the Paperwork Reduction Act of 1995 (PRA) and its implementing regulations, USTR submitted a request to the Office of Management and Budget (OMB) for clearance of this information collection request (ICR) titled 301 Exclusion Requests. OMB assigned control number 0350-0015, which expires January 31, 2023.

Joseph Barloon,
General Counsel, Office of the U.S. Trade Representative.

BILLING CODE 3290-F0-P

[FR Doc. 2020-02219 Filed 2-4-20; 8:45 am]

BILLING CODE 3290-F0-C